JUDICIAL CONFERENCE OF THE UNITED STATES

Advisory Committees on Appellate, Bankruptcy, Civil, Criminal, and Evidence Rules; Hearings of the Judicial Conference

AGENCY: Judicial Conference of the United States.

ACTION: Advisory Committees on Appellate, Bankruptcy, Civil, Criminal, and Evidence Rules; notice of proposed amendments and open hearings.

DATES: All written comments and suggestions with respect to the proposed amendments may be submitted on or after the opening of the period for public comment on August 6, 2021, but no later than February 16, 2022.

ADDRESSES: Written comments must be submitted electronically, following the instructions provided on the website. All comments submitted will be posted on the website and available to the public.

Remote public hearings via video or telephone conference are scheduled on the proposed amendments as follows:

• Appellate Rules on January 14, 2022 and January 28, 2022;

• Bankruptcy Rules on January 7, 2022 and January 28, 2022;

• Civil Rules on January 6, 2022 and February 4, 2022;

• Criminal Rules on November 8, 2021 and January 11, 2022; and

• Evidence Rules on January 21, 2022.

Those wishing to testify must contact the Secretary of the Committee on Rules of Practice and Procedure by email at: RulesCommittee_Secretary@ao.uscourts.gov, at least 30 days before the hearing.

FOR FURTHER INFORMATION CONTACT: Scott Myers, Esq., Acting Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION: The Advisory Committees on Appellate, Bankruptcy, Civil, Criminal, and Evidence Rules have proposed amendments to the following rules:

Appellate Rules: 2 and 4.

Bankruptcy Rules: Restyled Rules Parts III-VI; Rules 3002.1, 3011, and 8003; new Rule 9038; Official Forms 101, 309E1, 309E2, and 417A; and new Official Forms 410C13-1N, 410C13-1R, 410C13-10C, 410C13-10NC, and 410C13-10R.

Civil Rules: 15, 72, and new Rule 87.

Criminal Rules: New Rule 62.

Evidence Rules: 106, 615, and 702.

The text of the proposed rules and the accompanying committee notes, along with the related forms, will be posted by August 6, 2021, on the Judiciary's website at: http://www.uscourts.gov/rules-policies/proposed-amendments-published-public-comment.

(Authority: 28 U.S.C. 2073.)

Dated: July 27, 2021.
Shelly L. Cox,
Management Analyst, Rules Committee Staff.

[FR Doc. 2021-16319 Filed 7-29-21; 8:45 am]

BILLING CODE 2210-55-P